EXPORT-IMPORT BANK

Agency Information Collection Activities: Submission for OMB Review; Comment Request

AGENCY: Export-Import Bank of the United States.

ACTION: Notice and request for comment.

SUMMARY: Under the provisions of the Paperwork Reduction Act of 1995 (44 U.S.C., Chapter 35), the Export-Import Bank of the United States is submitting to the Office of Management and Budget (OMB) a request to review and approve both an extension and revision to several insurance forms which will expire on May 31, 2002. The Export-Import Bank of the United States (Ex-Im Bank) provides a variety of export credit insurance policies to exporters and institutions financing exports. The forms covering these policies are the applications for insurance which incorporate questionnaires and certificates. They provide information which allows the Bank to obtain legislatively required reasonable assurance of repayment and they fulfill other statutory requirements. The Bank is requesting a three-year extension for all of the forms. A request for public comment on this collection was published in the Federal Register, Volume 67, No. 55, Thursday, March 21, 2002. No comments were received.

DATES: Written comments should be received on or before July 8, 2002.

ADDRESSES: Direct all written comments or requests for additional information to David Rostker, Office of Management and Budget, Information and Regulatory Affairs, Room 10102, New Executive Office Building, Washington, DC 20503, (202) 395-3897.

FOR FURTHER INFORMATION CONTACT: Carlista D. Robinson, Export-Import Bank of the U.S., 811 Vermont Avenue, NW., Washington, DC 20571, (202) 565-3351.

SUPPLEMENTARY INFORMATION:

Titles and Form Numbers:

1. Application for Quotation—Export Credit Insurance, EIB 92-34

2. Beneficiary Certificate and Agreement, EIB 92-37

3. Application for a Financial Institution Buyer Credit Policy, EIB 92-41

4. Application for Export Credit Insurance Financing or Operating Lease Coverage, EIB 92-45

5. Application for Medium Term Export Credit Insurance Quotation, EIB 92-48

6. Short-Term Multi-Buyer Export Credit Insurance Policy Application, EIB 92-50

7. Exporter's Application for Short-Term Single-Buyer Policy, EIB 92-64

8. Application for Export Credit Insurance Umbrella Policy, EIB 92-72

9. Broker Registration Form, EIB 92-79

OMB Number: 3048-0009.

Type of Review: Revision and extension of expiration date.

Need and Use: The information requested enables the applicant to provide Ex-Im Bank with the information necessary to obtain legislatively required assurance of repayment and fulfills other statutory requirements. The forms encompass a variety of export credit insurance policies.

Affected Public: Entities involved in the export of U.S. goods and services, including exporters, banks, insurance brokers and non-profit or state and local governments acting as facilitators.

Estimated Annual Respondents: 2,219.

Estimated Time Per Respondent: 1 hour.

Estimated Annual Burden: 2,219.

Frequency of Reporting or Use: Applications submitted one time, renewals annually.

Dated: May 31, 2002.
Carlista D. Robinson,
Agency Clearance Officer.

BILLING CODE 6690-01-M

[FR Doc. 02-14120 Filed 6-5-02; 8:45 am]

BILLING CODE 6690-01-C